DEPARTMENT OF THE INTERIOR

Fish and Wildlife Service

Endangered Species Recovery Permit Applications

AGENCY: Fish and Wildlife Service, Interior.

ACTION: Notice of receipt of permit applications; request for comment.

SUMMARY: We invite the public to comment on the following applications to conduct certain activities with endangered species.

DATES: Comments on these permit applications must be received on or before November 1, 2007.

ADDRESSES: Written data or comments should be submitted to the U.S. Fish and Wildlife Service, Endangered Species Program Manager, California/Nevada Operations Office (CNO), 2800 Cottage Way, Room W-2606, Sacramento, California, 95825 (telephone: 916-414-6464; fax: 916-414-6486). Please refer to the respective permit number for each application when submitting comments. All comments received, including names and addresses, will become part of the official administrative record and may be made available to the public.

FOR FURTHER INFORMATION CONTACT: Daniel Marquez, Fish and Wildlife Biologist, at the above CNO address, (telephone: 760-431-9440; fax: 760-431-9624).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-161486

Applicant: Autumn Sartain, Carlsbad, California

The applicant requests a permit to take (survey by pursuit) the Quino checkerspot butterfly (Euphydryas editha quino) in conjunction with surveys throughout the range of the species in California for the purpose of enhancing its survival.

Permit No. TE-115370

Applicant: Gage Dayton, Moss Landing, California

The applicant requests an amendment to take (survey, capture, and release) the tidewater goby (Eucyclogobius newberryi) in conjunction with surveys for the purpose of enhancing their survival throughout the range of the species in Monterey, and Santa Cruz Counties, California.

Permit No. TE-161225

Applicant: Mojave Natural Preserve, Barstow, California

The applicant requests a permit to take (survey, collect, captive rear, captive propagate, and release to the wild) the Mohave tui chub (Siphateles bicolor mohavensis) in conjunction with ecological research in San Bernardino County, California, for the purpose of enhancing its survival.

Permit No. TE-161620

Applicant: Karl Osmundson, Carlsbad, California

The applicant requests a permit to take (capture, and collect and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-161496

Applicant: California State Parks, Felton, California

The applicant requests a permit to take (harass by survey, capture, and mark) the San Francisco garter snake (Thamnophis sirtalis tetrataenia) in conjunction with surveys and monitoring activities throughout the range of the species in Santa Cruz and San Mateo Counties, California, for the purpose of enhancing its survival.

Permit No. TE-809232

Applicant: Paul Holden, Logan, Utah

The applicant requests an amendment to take (harass by survey, capture by mist net, take feathers for DNA analysis, and release) the least Bell's vireo (Vireo bellii pusillus) in conjunction with surveys and research at the Ash Meadows National Wildlife Refuge in Nye County, California, for the purpose of enhancing its survival.

Permit No. TE-161512

Applicant: Darrin Doyle, Redding, California

The applicant requests a permit to take (capture, and collect and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California, for the purpose of enhancing their survival.

Permit No. TE-161510

Applicant: Michael Crane, Carmichael, California

The permittee requests a permit to take (harass by survey, capture, and release) the California tiger salamander (Ambystoma californiense) in conjunction with surveys in Alameda, Amador, Calaveras, Contra Costa, Fresno, Kern, Kings, Madera, Mariposa, Merced, Monterey, Sacramento, San Benito, San Joaquin, San Luis Obispo, Santa Barbara, Santa Clara, Solano, Sonoma, Stanislaus, Tulare, and Yolo Counties, California, for the purpose of enhancing its survival.

Permit No. TE-161717

Applicant: U.S. Forest Service, Arcata, California

The applicant requests a permit to take (harass by survey, and monitor populations) the marbled murrelet (Brachyramphus marmoratus) in conjunction with surveys, population monitoring, and research at the United States Department of Agriculture's Redwood Experimental Forest in Del Norte County, California, for the purpose of enhancing its survival.

Permit No. TE-162042

Applicant: Francis Villablanca, San Luis Obispo, California

The applicant requests a permit to take (capture, mark, and release) the Morro Bay kangaroo rat (Dipodomys heermanni morroensis) in conjunction with surveys throughout the range of the species in California for the purpose of enhancing their survival.

Permit No. TE-042952

Applicant: Gregory R. Ballmer, Riverside, California

The applicant requests an amendment to take (harass by survey) the Delhi sands flower-loving fly (Rhaphiomidas terminatus abdominalis) in conjunction with surveys throughout the range of the species in California, for the purpose of enhancing its survival.

Permit No. TE-778195

Applicant: Helix Environmental Planning, La Mesa, California

The applicant requests an amendment to take (capture, and collect and kill) the Conservancy fairy shrimp (Branchinecta conservatio), the longhorn fairy shrimp (Branchinecta longiantenna), and the vernal pool tadpole shrimp (Lepidurus packardi) in conjunction with surveys throughout the range of each species in California, for the purpose of enhancing their survival.

Permit No. TE-162652

Applicant: Mary Shea, Brentwood, California

The permittee requests a permit to take (harass by survey, capture, and release) the California tiger salamander (Ambystoma californiense) in conjunction with surveys throughout the range of the species in, California, for the purpose of enhancing its survival.

Permit No. TE-039716

Applicant: Arizona State University, Tempe, Arizona

The applicant requests an amendment to take (survey, electrofish, capture, collect biological samples, PIT tag, collect, and release) the bonytail chub (Gila elegans) and razorback sucker (Xyrauchen texanus) in conjunction with surveys, population monitoring, and genetic study for the purpose of enhancing their survival throughout the range of the species in Clark County, Nevada, and San Bernardino, Riverside, and Imperial Counties, California.

Permit No. TE-161483

Applicant: Linette Lina, Orange, California

The applicant requests a permit to take (harass by survey, and nest monitor) the least Bell's vireo (Vireo bellii pusillus) in conjunction with surveys and monitoring throughout the range of the species in California, for the purpose of enhancing its survival.

Permit No. TE-098994

Applicant: Kelly Goocher, Big Bear Lake, California

The applicant requests an amendment to take (harass by survey) the Southwestern willow flycatcher (Empidonax traillii extimus) in conjunction with surveys throughout the range of the species in California, for the purpose of enhancing its survival.

We solicit public review and comment on each of these recovery permit applications. Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment, but you should be aware that we may be required to disclose your name and address pursuant to the Freedom of Information Act. However, we will not consider anonymous comments. We will make all submissions from organizations or businesses, and from individuals identifying themselves as representatives or officials of organizations or businesses, available for public inspection in their entirety. Comments and materials received will be available for public inspection, by appointment, during normal business hours at the above address.

Dated: September 26, 2007.
Michael Fris,
Acting Manager, California/Nevada Operations Office, Sacramento, California.

[FR Doc. E7-19400 Filed 10-1-07; 8:45 am]

BILLING CODE 4310-55-P